DEPARTMENT OF ENERGY

Westar Generating, Inc., et al.; Electric Rate and Corporate Filings

[Docket No. ER01-1305-006, et al.]

Federal Energy Regulatory Commission

February 5, 2003.

The following filings have been made with the Commission. The filings are listed in ascending order within each docket classification.

1. Westar Generating, Inc.

[Docket No. ER01-1305-006]

Take notice that on February 3, 2003., Westar Generating, Inc., (WG) submitted for filing a revised Rate Schedule FERC No. 1, Purchase Power Agreement between WG and Westar Energy, Inc., (WE). WG states that the purpose of this revision is to remove certain language with respect to WE's purchase option for WG's ownership interest in the State Line combined-cycle generating project.

This revision is proposed to be effective February 1, 2003. WG states that copies of the filing were served upon WE and the Kansas Corporation Commission.

Comment Date: February 24, 2003.

2. Tampa Electric Company

[Docket No. ER03-169-002]

Take notice that on February 3, 2003, Tampa Electric Company (TEC) tendered for filing in compliance with the January 2, 2003, letter order a revised Interconnection and Operating Agreement between TEC and Cargill Fertilizer, Inc. as a service agreement under TEC's Open Access Transmission Tariff.

Comment Date: February 24, 2003.

3. Unitil Energy Systems, Inc.

[Docket No. ER03-374-001]

Take notice that on January 30, 2003, Unitil Energy Systems, Inc. (UES), filed a supplemental to the January 2, 2003, notice of succession, with the Federal Energy Regulatory Commission (Commission) pursuant to 18 CFR 35.16 and 131.51. UES adopted and ratified all applicable rate schedules filed with the Commission by Concord Electric Company and Exeter & Hampton Electric Company. UES also resubmitted its rate schedules to conform them to the formatting requirements of Order No. 614. UES requested that the revised rate schedules be made effective as of December 2, 2002.

Comment Date: February 20, 2003.

4. Florida Power & Light Company

[Docket Nos. ER03-489-000]

Take notice that on February 3, 2003, Florida Power & Light Company (FPL) filed with the Federal Energy Regulatory Commission an executed Service Agreement for Point-to-Point Transmission Service between FPL and Georgia Transmission Corporation (an Electric Membership Corporation). This Service Agreement No. 219 provides for 5 Megawatts of firm point-to-point transmission service for the period January 1, 2003, through December 31, 2004, which is a continuation of service begun on January 1, 2002. The preceding firm point-to-point service between FPL and Georgia Transmission Corporation that begun on January 1, 2002 was provided under Service Agreement No. 192. The parties have filed a notice of cancellation of Service Agreement No. 192.

FPL states that a copy of this filing has been served on Georgia Transmission Corporation and the Florida Public Service Commission.

Comment Date: February 24, 2003.

5. Westar Energy, Inc.

[Docket No. ER03-490-000]

Take notice that on February 3, 2003, Westar Energy, Inc., (WE) submitted for filing revisions to rate schedule FERC No. 300 removing certain agreements inadvertently submitted in an earlier docket and revising a Control Area Service Agreement between WE and Missouri Joint Municipal Electric Utility Commission (MJMEUC). WE states that the purpose of these changes is to permit MJMEUC to continue taking Scheduling, System Control, and Dispatch Services from WE. These changes are proposed to be effective January 1, 2003.

WE states that copies of the filing was served upon MJMEUC and the Kansas Corporation Commission.

Comment Date: February 24, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-3553 Filed 2-12-03; 8:45 am]

BILLING CODE 6717-01-P